DEPARTMENT OF THE INTERIOR

Bureau of Land Management

[LLCAC01000 L16600000.XZ0000 16XL1109AF LXSIOVHD0000]

Call for Nominations for Central and Northern California Resource Advisory Councils and Carrizo Plain National Monument Advisory Committee

AGENCY: Bureau of Land Management, Interior.

ACTION: Notice.

SUMMARY: The Bureau of Land Management (BLM) is seeking nominations for the Central California and Northern California District Resource Advisory Councils (RAC) and the Carrizo Plain National Monument Advisory Committee (MAC). The Central California RAC advises BLM officials for the Central Coast, Mother Lode, Bakersfield, Ukiah and Bishop Field Offices. The Northern California RAC advises BLM officials for the Redding, Arcata, Eagle Lake and Applegate Field Offices. The Carrizo MAC advises BLM officials for the Monument. The BLM will receive public nominations for 30 days from the date this notice is published.

DATES: A completed nomination form and accompanying nomination/recommendation letters must be received at the addresses listed below no later than September 15, 2016.

ADDRESSES: Completed applications for the Central California RAC and Carrizo MAC should be sent to the Bureau of Land Management, 5152 Hillsdale Circle, El Dorado Hills, CA 95762; attn: David Christy, email dchristy@blm.gov. Completed applications for the Northern California RAC should be sent to the Bureau of Land Management, 1695 Heindon Road, Arcata, CA 95521; attn: Leiskya Parrott, email lparrott@blm.gov.

FOR FURTHER INFORMATION CONTACT: David Christy, Central California District Public Affairs Officer, regarding the Central California RAC and Carrizo MAC, phone 916-941-3146, or email: dchristy@blm.gov. For further information on the Northern California RAC, contact Leiskya Parrott, Northern California District Acting Public Affairs Officer, phone 707 825-2313, email lparrott@blm.gov. Persons who use a telecommunications device for the deaf (TDD) may call the Federal Information Relay Service (FIRS) at 1-800-877-8339 to leave a message or question for the above individual. The FIRS is available 24 hours a day, seven days a week. Replies are provided during normal business hours.

SUPPLEMENTARY INFORMATION: The Secretary of the Interior established the Central California and Northern California RACs and Carrizo MAC pursuant to section 309 of the Federal Land Policy and Management Act (FLPMA) of 1976 (43 U.S.C. 1739) and in conformity with the Federal Advisory Committee Act (FACA) of 1972 (5 U.S.C. Appendix 2). The councils advise the Secretary of the Interior, through the BLM, on a variety of planning and management issues associated with public land management in the respective geographic areas. The Secretary appoints persons who are representatives of the various major citizen interests pertaining to land-use planning and management of the lands under BLM management.

Each member of the two RACs will be a person who, as a result of training and experience, has knowledge or special expertise which qualifies him or her to provide advice from among the categories of interest listed below. As appropriate, certain council members may be appointed as Special Government Employees, who serve on the councils without compensation, and are subject to financial disclosure requirements in the Ethics in Government Act and 5 CFR part 2634.

This notice, published pursuant to 43 CFR 1784.4-1, solicits public nominations to fill positions on the councils. The five positions open in the Central California RAC are in the following categories:

Category One (three positions)—Public land ranchers and representatives of organizations associated with energy and mineral development, the timber industry, transportation or rights-of-way, off-highway vehicle use, and commercial recreation.

Category Two (one position)—Representatives of nationally or regionally recognized environmental organizations, archaeological and historical organizations, dispersed recreation activities, and wild horse and burro organizations.

Category Three (one position)—Representatives of State, county, or local elected office; representatives and employees of a State agency responsible for the management of natural resources; representatives of Indian Tribes within or adjacent to the area for which the RAC is organized; representatives and employees of academic institutions who are involved in natural sciences; and the public-at-large.

The Northern California RAC has five openings in the following membership categories:

Category One—(Two positions) Members are public land ranchers and representatives of organizations associated with energy and mineral development, the timber industry, transportation or rights-of-way, off-highway vehicle use, and commercial recreation.

Category Two—(One position) The group includes representatives of nationally or regionally recognized environmental organizations, archaeological and historical organizations, dispersed recreation activities, and wild horse and burro organizations.

Category Three—(Two positions) The group consists of elected representatives of State, county or local government; representatives and employees of a State agency responsible for the management of natural resources; representatives of Indian tribes within or adjacent to the area for which the RAC is organized; representatives and employees of academic institutions who are involved in natural sciences; and the public-at-large. For the Carrizo MAC, five positions are open representing the Carrizo Native American Advisory Committee, those authorized to graze livestock within the monument and the public-at-large.

Nomination forms and additional information about the advisory groups are available on the Internet at http://www.blm.gov/ca/st/en/info/rac.html.

Any individual or organization may nominate one or more persons to serve on the RAC or MAC. Individuals may nominate themselves for RAC or MAC membership. Nominations packages must include a letter of nomination, a completed nomination form, letters of reference from the represented interest groups or organizations associated with the interests represented by the candidate, and any other information that speaks to the candidate's qualifications.

The specific category the nominee would represent should be identified in the letter of nomination and in the nomination form.

The BLM-California State Director and District Manager will review the nomination forms and letters of reference. The State Director shall confer with the Governor of the State of California on potential nominations, and then will forward recommended nominations to the Secretary of the Interior, who has responsibility for making the appointments.

Members will serve without monetary compensation, but will be reimbursed for travel and per diem expenses at current U.S. General Services Administration rates. The committees will meet at least twice a year. Additional meetings may be called by the Designated Federal Officer.

The Obama Administration prohibits individuals who are currently federally registered lobbyists to serve on all FACA and non-FACA boards, committees or councils.

Authority: 43 CFR 1784.4-1.

Dereck Wilson,
Acting Central California District Manager.

[FR Doc. 2016-19428 Filed 8-15-16; 8:45 am]

BILLING CODE 4310-40-P